DEPARTMENT OF COMMERCE

International Trade Administration

[A-331-802]

Certain Frozen Warmwater Shrimp From Ecuador: Amended Final Results of Antidumping Duty Administrative Review

AGENCY: Import Administration, International Trade Administration, Department of Commerce.

SUMMARY: On September 15, 2009, the Department of Commerce (Department) published in the Federal Register the final results of the administrative review of the antidumping duty order on certain frozen warmwater shrimp (shrimp) from Ecuador for the period of review (POR) of February 1, 2007, through August 14, 2007. See Certain Frozen Warmwater Shrimp From Ecuador: Final Results of Antidumping Duty Administrative Review, 74 FR 47201 September 15, 2009) (Final Results), and accompanying Issues and Decision Memorandum. Based on the correction of a ministerial error with respect to the calculation of the indirect selling expense ratio for the respondent Sociedad Nacional de Galapagos, S.A. (Songa), we have changed the final results margin for Songa and, as a result, the final results margins for the respondents not selected for individual examination in this administrative review.

FOR FURTHER INFORMATION CONTACT: David Goldberger or Gemal Brangman, AD/CVD Operations, Office 2, Import Administration, International Trade Administration, U.S. Department of Commerce, 14th Street and Constitution Avenue, NW., Washington, DC 20230; telephone: (202) 482-4136 or (202) 482-3773, respectively.

SUPPLEMENTARY INFORMATION: Following the publication of the Final Results, we received timely allegations of ministerial errors pursuant to 19 CFR 351.224(c) from Promarisco, S.A. (Promarisco) and Songa, the respondents selected for individual examination in this administrative review. Specifically, Promarisco claimed that the Department made two ministerial errors: (a) Double-counting costs associated with two unpaid U.S. sales; and (b) incorrectly calculating the average of the payment date discrepancies observed at verification with respect to Promarisco's Spanish sales in the recalculation of third-country imputed credit expenses. See letter from Promarisco dated September 16, 2009. Songa claimed that the Department erred by adding certain general and administrative (G&A) expenses in the recalculation of Songa's indirect selling expense ratio, and including in those expenses antidumping-related expenses that should have been excluded. See letter from Songa dated September 16, 2009. No other party commented on these allegations.

A ministerial error, as defined in section 751(h) of the Tariff Act of 1930, as amended (the Act), “includes errors in addition, subtraction, or other arithmetic function, clerical errors resulting from inaccurate copying, duplication, or the like, and any other type of unintentional error which the Secretary considers ministerial.” See also 19 CFR 351.224(f).

After analyzing the respondents' allegations, we have determined, in accordance with 19 CFR 351.224(e), that we made a ministerial error with respect to the inclusion of antidumping-related expenses in the recalculation of Songa's indirect selling expenses. With respect to Promarisco's allegations that the Department erred by double-counting costs associated with two unpaid U.S. sales, and by incorrectly calculating the average of the payment date discrepancies observed at verification with respect to Promarisco's Spanish sales, we find that neither allegation constituted a ministerial error pursuant to 19 CFR 351.224(f) because the Department's calculations accurately reflected the Department's intent as stated in the Final Results. With respect to Songa's allegation that the Department improperly classified certain G&A expenses, other than the antidumping-related expenses discussed above, as indirect selling expenses in its recalculation of Songa's indirect selling expense ratio, we also conclude that no ministerial error was committed under 19 CFR 351.224(f) because the Department's action was properly based on information on the record. For a detailed discussion of these ministerial error allegations, as well as the Department's analysis, see the memorandum entitled “Allegations of Ministerial Errors in the Final Results,” dated October 8, 2009.

Therefore, we are hereby amending the Final Results with respect to Songa to correct the ministerial error described above in our calculation of the indirect selling expense ratio, in accordance with 19 CFR 351.224(e). In addition, because the margin we calculated for the respondents not selected for individual examination was based on a simple average of the rates of the two respondents selected for individual examination in this review, Promarisco and Songa, we have recalculated the margin for the non-selected respondents to reflect the change in Songa's margin.

Amended Final Results of Review

As a result of the correction of the ministerial error with respect to Songa, we determine that weighted-average dumping margins exist for the respondents for the period February 1, 2007, through August 14, 2007, as follows:

Manufacturer/exporter | Percent margin
Promarisco, SA | 0.85
Sociedad Nacional de Galapagos C.A. (Songa) | 0.64
Review-Specific Average Rate Applicable to the Following Companies: ¹
Agricola e Industrial Ecuaplantation SA | 0.75
Agrol SA | 0.75
Alberto Xavier Mosquera Rosado | 0.75
Alquimia Marina SA | 0.75
Babychic SA | 0.75
Biolife SA | 0.75
Braistar | 0.75
Camaronera Jenn Briann | 0.75
Camarones | 0.75
Comar Cia Ltda | 0.75
Doblertel SA | 0.75
Dumary SA | 0.75
Dunci SA | 0.75
El Rosario Ersa SA | 0.75
Empacadora Bilbo SA (Bilbosa) | 0.75
Empacadora del Pacifico SA (EDPACIF SA) | 0.75
Empacadora Dufer Cia. Ltda. (DUFER) | 0.75
Empacadora Grupo Gran Mar (Empagran) SA | 0.75
Empacadora Nacional CA | 0.75
Empacadora y Exportadora Calvi Cia. Ltda | 0.75
Emprede SA | 0.75
Estar CA | 0.75
Exporclam SA | 0.75
Exporklore SA | 0.75
Exportadora Bananera Noboa | 0.75
Exportadora de Productos de Mar (Produmar) | 0.75
Exportadora del Oceano (Oceanexa) CA | 0.75
Exportadora Langosmar SA | 0.75
Exportadora del Oceano Pacifico SA (OCEANPAC) | 0.75
Exports Langosmar SA | 0.75
Fortumar Ecuador SA | 0.75
Gambas del Pacifico SA | 0.75
Gondi SA | 0.75
Hector Canino Marty | 0.75
Hectorosa SA | 0.75
Industrial Pesquera Santa Priscila SA (Santa Priscila) | 0.75
Inepexa SA | 0.75
Jorge Luis Benitez Lopez | 0.75
Karpicorp SA | 0.75
Luis Loaiza Alvarez | 0.75
Mardex Cia. Ltda | 0.75
Marine | 0.75
Marines CA | 0.75
Mariscos de Chupadores Chupamar | 0.75
Mariscos del Ecuador C. Ltda. (Marecuador) | 0.75
Natural Select SA | 0.75
Negocios Industriales Real Nirsa SA (NIRSA) | 0.75
Novapesca SA | 0.75
Ocean Fish | 0.75
Oceaninvest SA | 0.75
Oceanmundo SA | 0.75
Oceanpro SA | 0.75
Operadora y Procesadora de Productos Marinos SA (Omarsa) | 0.75
Oyerly SA | 0.75
P.C. Seafood SA | 0.75
Pacfish SA | 0.75
PCC Congelados & Frescos SA | 0.75
Pescazul SA | 0.75
Peslasa SA | 0.75
Phillips Seafoods of Ecuador CA (Phillips) | 0.75
Pisacua SA | 0.75
Procesadora del Rio SA (Proriosa) | 0.75
Productos Cultivados del Mar Proc | 0.75
Productos Cultivados del Mar Proculmar Cia. Ltda | 0.75
Productos del Mar Santa Rosa Cia. Ltda (Promarosa) | 0.75
Propemar SA | 0.75
Provefrut | 0.75
Rommy Roxana Alvarez Anchundia | 0.75
Sea Pronto Hector Marty Canino (Sea Pronto) | 0.75
Sociedad Atlantico Pacifico SA | 0.75
Soitgar SA | 0.75
Studmark SA | 0.75
Tecnica y Comercio de la Pesca CA (TECOPESCA) | 0.75
Tolyp SA | 0.75
Trans Ocean | 0.75
Transcity SA | 0.75
Transmarina CA | 0.75
Transocean Ecuador SA | 0.75
Uniline Transport System | 0.75
¹ This rate is based on the simple average of the margins calculated for those companies selected for individual examination, excluding de minimis margins or margins based entirely on facts available, as discussed in the Final Results.

The Department will determine and the U.S. Bureau of Customs and Border Protection (CBP) shall assess antidumping duties on all appropriate entries. We intend to issue appropriate assessment instructions directly to CBP 15 days after publication of these amended final results of review. For a general discussion of the application of assessment rates, see Final Results at 47203.

We are issuing and publishing this determination and notice in accordance with sections 751(a)(1) and 777(i) of the Act, and 19 CFR 351.224(e).

Dated: October 13, 2009.
Ronald K. Lorentzen,
Acting Assistant Secretary for Import Administration.

[FR Doc. E9-25092 Filed 10-16-09; 8:45 am]

BILLING CODE 3510-DS-P